DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 20, 2007.

Interested persons are invited to submit written comments regarding the subject matter of the investigations to the Director, Division of Trade Adjustment Assistance, at the address shown below, not later than April 20, 2007.

The petitions filed in this case are available for inspection at the Office of the Director, Division of Trade Adjustment Assistance, Employment and Training Administration, U.S. Department of Labor, Room C-5311, 200 Constitution Avenue, NW., Washington, DC 20210.

Signed at Washington, DC, this 3rd day of April 2007.
Linda G. Poole,
Certifying Officer, Division of Trade Adjustment Assistance.

Appendix
[TAA petitions instituted between 3/26/07 and 3/30/07]
TA-W | Subject firm (petitioners) | Location | Date of institution | Date of petition
61175 | Beard Hosiery Co. Inc. (Wkrs) | Lenior, NC | 03/26/07 | 03/12/07
61176 | Schoeller Arca Systems (Wkrs) | Detroit, MI | 03/26/07 | 03/23/07
61177 | Bartech (Wkrs) | Kokomo, IN | 03/26/07 | 03/23/07
61178 | Owens-Illinois (Comp) | Hayward, CA | 03/26/07 | 03/22/07
61179 | Rebtex Inc. (State) | Sommerville, NJ | 03/26/07 | 03/23/07
61180 | Weley Incorporated (Wkrs) | Blue Bell, PA | 03/26/07 | 03/26/07
61181 | Pine River Plastics, Inc. (Wkrs) | Westminister, SC | 03/26/07 | 03/22/07
61182 | Ferrero U.S.A., Inc. (Comp) | Somerset, NJ | 03/26/07 | 03/23/07
61183 | Duro Textiles LLC (State) | Fall River, MA | 03/26/07 | 03/26/07
61184 | Diversified Precision Products (Comp) | Spring Arbor, MI | 03/27/07 | 03/21/07
61185 | Loparex Inc. (Union) | Dixon, IL | 03/27/07 | 03/13/07
61186 | New London Textile (Comp) | Newark, DE | 03/27/07 | 03/20/07
61187 | PointCare Corporation (Wkrs) | San Jose, CA | 03/27/07 | 03/16/07
61188 | Merrill Lynch (State) | New York, NY | 03/27/07 | 03/23/07
61189 | Analog Devices Incorporated (Wkrs) | Sunnyvale, CA | 03/27/07 | 03/22/07
61190 | Entronix (State) | Rogers, MN | 03/27/07 | 03/23/07
61191 | Collins & Aikman Products Co (27573) | Roxboro, NC | 03/27/07 | 03/23/07
61192 | Arrow Electronics Inc. (State) | Shawnee Mission, KS | 03/27/07 | 03/23/07
61193 | Administaff formerly named Star Products (State) | Monroe, LA | 03/27/07 | 03/23/07
61194 | Triana Industries, Inc. (Comp) | Madison, AL | 03/27/07 | 03/26/77
61195 | Eaton Corporation (Comp) | Laurinburg, NC | 03/27/07 | 03/20/07
61196 | Avx Corporation (Comp) | Raleigh, NC | 03/27/07 | 03/26/07
61197 | Ferguson Enterprises c/o Freightline (State) | Portland, OR | 03/27/07 | 03/26/07
61198 | L.A. Darling Company (Comp) | Sun Prairie, WI | 03/27/07 | 03/26/07
61199 | Emerson Network Power (Comp) | Lorain, OH | 03/28/07 | 03/26/07
61200 | Neff-Perkins Company (Union) | Perry, OH | 03/28/07 | 03/09/07
61201 | Photronics, Inc. (Comp) | Brookfield, CT | 03/28/07 | 03/23/07
61202 | Glenoit LLC/Excell Home Fashion, Inc. (Comp) | Goldsboro, NC | 03/28/07 | 03/27/07
61203 | Calgon Carbon Corporation (Wkrs) | Columbus, OH | 03/28/07 | 03/27/07
61204 | Gildan Activewear Malone, Inc. (Comp) | Bombay, NY | 03/28/07 | 03/27/07
61205 | Collins and Aikman (UAW) | Sterling Hghts, MI | 03/28/07 | 03/27/07
61206 | The Hershey Company (State) | Hershey, PA | 03/28/07 | 03/27/07
61207 | Gorecki Mfg. (State) | Millaca, MN | 03/29/07 | 03/28/07
61208 | GKN Sinter Metals, Inc. (Comp) | Worcester, MA | 03/29/07 | 03/27/07
61209 | Reum Corporation (Wkrs) | Waukegan, IL | 03/29/07 | 03/28/07
61210 | Carlsen Wood Products Inc. (Comp) | Sinclairville, NY | 03/29/07 | 03/22/07
61211 | Dundee Manufacturing Co., Inc. (Comp) | Dundee, MI | 03/29/07 | 03/28/07
61212 | MPA Motorcar Parts of America (State) | Torrance, CA | 03/29/07 | 03/27/07
61213 | Stark Ceramics Inc. (Wkrs) | East Canton, OH | 03/30/07 | 03/21/07
61214 | Link Technologies, LLC (Comp) | Brown City, MI | 03/30/07 | 03/27/07
61215 | Tool Dex Inc. (Wkrs) | Warren, MI | 03/30/07 | 03/29/07
61216 | Broyhill Pacemaker Furniture & Power Plant (Comp) | Lenior, NC | 03/30/07 | 03/29/07
61217 | Douglas Quikut (stamping dept) (State) | Walnut Ridge, AR | 03/30/07 | 03/29/07
61218 | Hanesbrands, Inc. (Comp) | Winston-Salem, NC | 03/30/07 | 03/29/07
61219 | Collins & Aikman-Automotive Technology Center (Other) | Dover, NH | 03/30/07 | 03/28/07
61220 | Silberline Mfg. Company Inc. (Comp) | Decatur, IN | 03/30/07 | 03/28/07

[FR Doc. E7-6657 Filed 4-9-07; 8:45 am]

BILLING CODE 4510-FN-P